DEPARTMENT OF THE INTERIOR

Fish and Wildlife Service

Coastal Barrier Improvement Act of 1990; Amendments to the Coastal Barrier Resources System and Otherwise Protected Areas

AGENCY: Fish and Wildlife Service, Interior.

ACTION: Notice.

SUMMARY: We, the Fish and Wildlife Service, have replaced a map of an otherwise protected area (OPA) in Delaware, as directed by Congress. We are using this notice to inform the public about the distribution and availability of the revised map.

DATES: The boundary revisions for this OPA became effective on December 6, 1999, in accordance with Public Law 106-128.

FOR FURTHER INFORMATION CONTACT: Dr. Benjamin N. Tuggle, Department of the Interior, U.S. Fish and Wildlife Service, Division of Habitat Conservation, (703) 358-2161.

SUPPLEMENTARY INFORMATION:

Background

In 1982, Congress passed the Coastal Barrier Resources Act (P.L. 97-348) to restrict Federal spending that could foster development of undeveloped coastal barriers along the Atlantic and Gulf of Mexico coasts. In the Coastal Barrier Improvement Act of 1990 (P.L. 101-591), Congress amended the Act to broaden the definition of a coastal barrier, and approved a series of maps entitled “Coastal Barrier Resources System” dated October 24, 1990. These maps identify and depict those coastal barriers located on the coasts of the Atlantic Ocean, Gulf of Mexico, and the Great Lakes and in Puerto Rico and the Virgin Islands that are subject to the Federal funding limitations outlined in the Act. The 1990 Act also approved a related series of maps depicting otherwise protected areas (OPA) along the same coastlines. In full System units most forms of Federal subsidies are prohibited. In OPAs only Federal flood insurance is prohibited.

The Act also defines our responsibilities regarding the System and OPA maps. We have official custody of these maps and prepare and distribute copies of them. We published a notice of the filing, distribution, and availability of the maps dated October 24, 1990, in the Federal Register on June 6, 1991 (56 FR 26304-26312). We have announced all subsequent map revisions in the Federal Register.

Revisions to an OPA in Delaware

Section 1(a) of Public Law 106-128, enacted on December 6, 1999, requires us to revise the map depicting a specific OPA (designated as DE-03P) in Sussex County, Delaware. The changes to Cape Henlopen Unit DE-03P will add State park land to the OPA and remove privately owned land outside of the park.

How To Get Copies of the Map

The Service is sending copies of the revised map to the House of Representatives Committee on Resources and the Committee on Banking and Financial Services, the Senate Committee on Environment and Public Works, and to each appropriate Federal, State, and local agency having jurisdiction over the areas in which the modified unit is located.

You can purchase copies of System and OPA maps from the U.S. Geological Survey, Earth Science Information Center, P.O. Box 25286, Denver, Colorado 80225. The cost is $4.00 per map, plus a $3.50 shipping and handling fee for the entire order. Maps can also be viewed at the following Fish and Wildlife Service offices:

Washington Office—all System and OPA maps.

U.S. Fish and Wildlife Service, Division of Habitat Conservation, 4401 N. Fairfax Drive, Room 400, Arlington, Virginia 22203, (703) 358-2201

Northeast Regional Office—all System and OPA maps for Connecticut, Delaware, Maine, Maryland, Massachusetts, New Jersey, New York, Rhode Island, and Virginia.

Region 5, U.S. Fish and Wildlife Service, 300 Westgate Center Drive, Hadley, MA 01035-9589, (413) 253-8657

Field Office—System and OPA maps for Delaware.

Field Supervisor, U.S. Fish and Wildlife Service, 177 Admiral Cochrane Drive, Annapolis, MD 21401, (410) 573-4500

Dated: March 23, 2000.
Jamie Rappaport Clark,
Director, Fish and Wildlife Service.

[FR Doc. 00-8190 Filed 4-3-00; 8:45 am]

BILLING CODE 4310-55-P